DEPARTMENT OF THE INTERIOR

Fish and Wildlife Service

Notice of Availability of an Environmental Assessment/Habitat Conservation Plan for Issuance of an Endangered Species Act Section 10(a)(1)(B) Permit for the Incidental Take of Golden-Cheeked Warbler (Dendroica chrysoparia) During the Construction and Operation of Residential Development on Portions of the Approximately 50.08-acre CT 620 Residential Property, Austin, Travis County, TX

SUMMARY: CT 620 Partnership, Ltd. (Applicant) has applied to the U.S. Fish and Wildlife Service (Service) for an incidental take permit pursuant to section 10(a) of the Endangered Species Act (Act). The Applicant has been assigned permit number TE-036095-0. The requested permit, which is for a period of 30 years, would authorize the incidental take of the endangered golden-cheeked warbler (Dendroica chrysoparia). The proposed take would occur as a result of the construction of five residences on 50.08 acres on Hughes Park Road near RR 620, Austin, Travis County, Texas.

The Service has prepared the Environmental Assessment/Habitat Conservation Plan (EA/HCP) for the incidental take application. A determination of jeopardy to the species or a Finding of No Significant Impact (FONSI) will not be made before 60 days from the date of publication of this notice. This notice is provided pursuant to section 10(c) of the Act and National Environmental Policy Act regulations (40 CFR 1506.6).

DATES: Written comments on the application should be received by February 26, 2001.

ADDRESSES: Persons wishing to review the application may obtain a copy by writing to the Regional Director, U.S. Fish and Wildlife Service, P.O. Box 1306, Albuquerque, New Mexico 87103. Persons wishing to review the EA/HCP may obtain a copy by contacting Sybil Vosler, Ecological Services Field Office, 10711 Burnet Road, Suite 200, Austin, Texas 78758 (512/490-0063). Documents will be available for public inspection by written request, by appointment only, during normal business hours (8:00 to 4:30) U.S. Fish and Wildlife Service, Austin, Texas. Written data or comments concerning the application(s) and EA/HCPs should be submitted to the Field Supervisor, Ecological Field Office, Austin, Texas at the above address. Please refer to permit number TE-036095-0 when submitting comments.

FOR FURTHER INFORMATION CONTACT: Sybil Vosler at the above Austin Ecological Service Field Office.

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

Applicant

CT 620 Partnership, Ltd. plans to construct five residences on portions of 50.08 acres on Hughes Park Road near RR 620, Austin, Travis County, Texas. This action will indirectly impact the habitat of the golden-cheeked warbler. The development will eliminate approximately 16 acres of golden-cheeked warbler habitat which may result in the take of one to two golden-cheeked warbler territories. The applicant proposes to compensate for this incidental take of golden-cheeked warbler habitat by providing $304,000 to the Balcones Canyonlands Preserve for the purchase and preservation of golden-cheeked warbler habitat; minimization of on site habitat destruction; education and encouragement of the homeowners in the use of xeriscaping, clearing only between August 1 to March 1 when the warblers are not present; and prohibition of deer and bird feeders that encourage the growth of populations of species that parasitize, predate or out compete the golden-cheeked warbler or destroy its habitat. Alternatives to this action are not preferred because not developing the subject property with federally listed species present was not economically feasible and alteration of the project design would increase the impacts.

Bryan Arroyo
Regional Director, Region 2, Albuquerque, New Mexico.

[FR Doc. 00-32863 Filed 12-22-00; 8:45 am]

BILLING CODE 4510-55-P